DEPARTMENT OF DEFENSE

Office of the Secretary

[Docket ID: DoD-2020-OS-0104]

Proposed Collection; Comment Request

AGENCY: National Defense University, Department of Defense (DoD).

ACTION: Information collection notice.

SUMMARY: In compliance with the Paperwork Reduction Act of 1995, the National Defense University announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 16, 2021.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to National Defense University, 300 5th Avenue SW, Building 62, Washington, DC 20319, ATTN: LTC Ann Summers, or call (202) 685-3323.

SUPPLEMENTARY INFORMATION:

Title; Associated Form; and OMB Number: National Defense University Security Office Forms; OMB Control Number 0704-XXXX.

Needs and Uses: The National Defense University (NDU) Security Office is responsible for ensuring personnel and facility security in all situations involving NDU employees. This includes ensuring that an appropriate background investigation is completed and favorably adjudicated in accordance with 32 CFR 156.6—Common access card (CAC) investigation and adjudication. It is also necessary for the NDU Security Office to process visit clearance certification for NDU employees that are visiting outside agencies/components facilities involving access to, or disclosure of, classified information. In accordance with DoDM 5200.01, volume 3 and DoDD 5230.20 at a minimum, data is required to identify an individual, personnel security clearance, access (if appropriate), and need to know for all visitors. NDU Security Office is also responsible for in-processing all permanent personnel (military, civilians, contractors, and foreign partners assigned to the colleges and centers within NDU's area of responsibility). In accordance with HSPD-12 and FIPS 201, the data provided is necessary to process Personal Identity Verification (PIV) credentials to personnel seeking physical access to federally-controlled government facilities. The three forms included in this collection package—the NDU eQIP Nomination Form, NDU Visit Request Form, and NDU Security In-Process Form—facilitate each of these processes, respectively. Respondents to this collection are National Defense University employees who must provide information to the NDU Security Office to facilitate essential personnel, facility, and information security functions. This includes information necessary to complete a background investigation for CAC card issuance (NDU eQIP Nomination Form), information for in-processing and PIV credentialing (NDU Security In-Process Form), and information for visit clearance certification (NDU Visit Request Form).

Affected Public: Individuals and Households, Foreign Nationals.

Annual Burden Hours: 77.

Number of Respondents: 385.

Responses per Respondent: 1.

Annual Responses: 385.

Average Burden per Response: 12 minutes.

Frequency: On occasion.

Dated: December 11, 2020.
Aaron T. Siegel,
Alternate OSD Federal Register Liaison Officer, Department of Defense.

[FR Doc. 2020-27663 Filed 12-15-20; 8:45 am]

BILLING CODE 5001-06-P